COMMITTEE FOR PURCHASE FROM PEOPLE WHO ARE BLIND OR SEVERELY DISABLED

Procurement List Additions and Deletion

AGENCY: Committee for Purchase from People Who Are Blind or Severely Disabled.

ACTION: Additions to and deletion from the Procurement List.

SUMMARY: This action adds to the Procurement List products and a service to be furnished by nonprofit agencies employing persons who are blind or have other severe disabilities, and deletes from the Procurement List a product previously furnished by such agencies.

DATES: Effective Date: November 4, 2007.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On June 22 and August 3, 2007, the Committee for Purchase From People Who Are Blind or Severely Disabled published notice (72 FR 34433; 43230) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

End of Certification

Accordingly, the following products and service are added to the Procurement List:

Products

Cartridge, Toner, Remanufactured

NSN: 7510-00-NSH-0075—Remanufactured HP LJ Toner Cartridge—OEM C7115X.

NSN: 7510-00-NSH-0076—Remanufactured HP LJ Toner Cartridge—OEM C3909A.

NSN: 7510-00-NSH-0077—Remanufactured HP LJ Toner Cartridge—OEM C4096A.

NSN: 7510-00-NSH-0078—Remanufactured HP LJ Toner Cartridge—OEM C4127X.

NSN: 7510-00-NSH-0079—Remanufactured HP LJ Toner Cartridge—OEM C8061X.

Coverage: A-List for the total Government requirement as specified by the General Services Administration.

NPA: Thresholds Rehabilitation Inc., Chicago, IL.

Contracting Activity: General Services Administration, Office Supplies & Paper Products Acquisition Ctr., New York, NY.

Long Format Replacement Pages—FCCL

NSN: 7510-00-NSH-0257—Refill sheets for long format Flight Crew Check List Binder.

Coverage: A-List for the total Government requirement as specified by the General Services Administration.

Standard Format Replacement Pages, FCCL

NSN: 7510-01-537-1400—Refill sheets for Flight Crew Checklist Binders—5.5″ × 8.00″ w/16 holes for rings.

Coverage: A-List for the total Government requirement as specified by the General Services Administration.

NPA: Pueblo Diversified Industries, Inc., Pueblo, CO.

Contracting Activity: General Services Administration, Federal Supply Services, Region 2, New York, NY.

USB Flash Drives

NSN: 7520-00-NIB-1832—512MB.

NSN: 7520-00-NIB-1833—1GB.

NSN: 7520-00-NIB-1834—2GB.

NSN: 7520-00-NIB-1835—4GB.

NSN: 7520-00-NIB-1836—8GB.

NSN: 7520-00-NIB-1837—16GB.

NSN: 7520-00-NIB-1838—512MB.

NSN: 7520-00-NIB-1839—1GB.

NSN: 7520-00-NIB-1840—2GB.

NSN: 7520-00-NIB-1841—4GB.

NSN: 7520-00-NIB-1842—8GB.

NSN: 7520-00-NIB-1843—16GB.

Coverage: A-List for the total Government requirement as specified by the General Services Administration.

NPA: North Central Sight Services, Inc., Williamsport, PA.

Contracting Activity: General Services Administration, Office Supplies & Paper Products Acquisition Ctr., New York, NY.

Service

Service Type/Location: Custodial Services, Department of Energy—Lindsay Complex, 775 Lindsay Blvd, Idaho Falls, ID.

NPA: Development Workshop, Inc., Idaho Falls, ID.

Contracting Activity: Department of Energy—IDAHO, Idaho Falls, ID.

Deletion

On August 3, 2007, the Committee for Purchase From People Who Are Blind or Severely Disabled published notice (72 FR 43230) of proposed deletions to the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Perforator, Paper, Desk

NSN: 7520-01-431-6247—Perforator, Paper, Desk.

NSN: 7520-01-431-6249—Perforator, Paper, Desk.

NPA: Foothill Workshop for the Handicapped, Inc., Pasadena, CA.

Contracting Activity: General Services Administration, Office Supplies & Paper Products Acquisition Ctr., New York, NY.

Kimberly M. Zeich,
Director, Program Operations.

[FR Doc. E7-19717 Filed 10-4-07; 8:45 am]

BILLING CODE 6353-01-P